DEPARTMENT OF THE TREASURY

Bureau of Engraving and Printing

Privacy Act of 1974; System of Records

AGENCY: Bureau of Engraving and Printing, Treasury.

ACTION: Notice of proposed alteration to a system of records.

SUMMARY: In accordance with the Privacy Act of 1974, as amended, the United States Department of the Treasury, Bureau of Engraving and Printing (BEP) gives notice of proposed alterations to its Privacy Act system of records entitled “Treasury/BEP .021—Investigative Files.”

DATES: Comments must be received no later than February 6, 2012. The proposed alterations to the system of records will become effective February 10, 2012 unless the BEP receives comments that would result in a contrary determination.

ADDRESSES: Comments should be sent to Office of the Chief Counsel, United States Department of the Treasury, Bureau of Engraving and Printing, 14th and C Streets SW., Washington, DC 20228, Room 419-A, Attention: Revisions to PA Systems of Records. Comments can be faxed to (202) 874-5710, or emailed to Keir.Bancroft@bep.gov. For emails, please place “Revisions to SOR” in the subject line. Comments will be made available for public inspection upon written request. The BEP will make such comments available for public inspection and copying at the above-listed location, on official business days between the hours of 9 a.m. and 5 p.m. Eastern time. Persons wishing to inspect the comments submitted must request an appointment by telephoning (202) 874-5915. All comments received, including attachments and other supporting materials, are part of the public record and subject to public disclosure. You should submit only information that you wish to make available publicly.

FOR FURTHER INFORMATION CONTACT: Keir X. Bancroft, Privacy Officer, United States Department of the Treasury, Bureau of Engraving and Printing, 14th and C Streets SW., Washington, DC 20228, by phone at (202) 874-5915, or by email at Keir.Bancroft@bep.gov.

SUPPLEMENTARY INFORMATION: On June 29, 2009, the Bureau of Engraving and Printing, a bureau within the United States Department of the Treasury, published its inventory of Privacy Act systems of records beginning at 74 FR 31090. Included within that inventory was a system of records entitled “Treasury/BEP .021—Investigative Files.” BEP proposes to amend that system of records by adding language under the headings “Categories of individuals covered in the system,” “Categories of records in the system,” “Retrievability,” and “Retention and disposal.”

Under the existing system of records, BEP may collect and maintain background investigation records on its current and separated employees, its contractors, and its service providers. BEP uses this information for conducting investigations, issuing security clearances, providing access to its facilities, and other administrative reasons.

BEP is amending the categories of individuals covered in the system to include “employees or contractors of companies to which samples or test decks of Federal Reserve notes or other Government securities are supplied.” This amendment will allow BEP to collect and maintain background investigation records on individuals who do not work for BEP or for any of its contractors or service providers. These are employees or contractors of third party companies, such as banknote equipment manufacturers and currency reader manufacturers, who receive sample Federal Reserve notes or test decks from BEP for purposes of testing their products' compatibility with new currency designs. These third party companies are typically not contractors or service providers to BEP, but BEP needs to provide sample notes and securities to their employees.

BEP is also amending this system to allow for collection and maintenance of “passport numbers.” This new information will allow BEP to perform more in-depth background checks. Passport numbers can be used in domestic and international databases to perform background checks. Further, to the extent other categories of records in the system are not available for purposes of performing a background investigation, a passport number may be the one record available.

BEP is amending the purpose of this system to clarify that background investigation records will be collected from visitors to BEP facilities, and “others to whom samples or test decks of Federal Reserve notes or other Government securities are supplied.”

BEP is amending the “Retrievability” section by indicating that background information may be retrieved numerically by passport number. This reflects the addition of passport numbers to the categories of records in the System.

Finally, BEP is amending the timeframe for retention and disposal by specifying that information will be maintained for “five years after expiration of a security agreement or a nondisclosure agreement.” This is the same period of time that BEP retains background information on its employees, contractors, and service providers (i.e., five years after separation or five years after expiration of a contractual relationship).

The altered system of records report has been submitted to the Committee on Government Reform and Oversight of the House of Representatives, the Committee on Homeland Security and Governmental Affairs of the Senate, and the Office of Management and Budget, pursuant to 5 U.S.C. 552a(r) and Appendix I to OMB Circular A-130, “Federal Agency Responsibilities for Maintaining Records About Individuals,” dated November 30, 2000.

For the reasons set forth in the preamble, BEP proposes to amend its system of records entitled “BEP .021—Investigative Files,” as follows:

Treasury/BEP .021

System name:

Investigative Files.

* * * * *

Categories of individuals covered in the system:

Description of the change: Remove current entry and in its place add the following: “Employees, separated bureau employees, employee applicants, visitors to the bureau, news-media correspondents, contractor and service company employees (current and separated), and employees or contractors of companies to which samples or test decks of Federal Reserve notes or other Government securities are supplied.”

* * * * *

Categories of records in the system:

Description of the change: Following the phrase “Type of information:” the words “passport numbers,” are added before the words “character references.”

* * * * *

Purposes(s):

Description of the change: Remove current entry and in its place add the following: “This system is to permit the Bureau to collect and maintain background investigation records on potential applicants, current Bureau employees and contractors for issuance of security clearances, visitors seeking access to Bureau facilities, and others to whom samples or test decks of Federal Reserve notes or other Government securities are supplied, or other administrative reasons. Information is also collected as part of investigations conducted by the Bureau's Office of Security.”

* * * * *

Retrievability:

Description of the change: Remove current entry and in its place add the following: “Numerically by case number and year, alphabetically by name, social security number, alphabetically by company name, and numerically by passport.”

* * * * *

Retention and disposal:

Description of the change: Remove current entry and in its place add the following: “Destroy within 90 days following notification of an employee's death, within five years after separation or transfer of incumbent employee, five years after expiration of contractual relationship, or five years after expiration of a security agreement or nondisclosure agreement, Product Discrepancy Investigative Reports and Bank Letter Investigative Reports are retained indefinitely.”

* * * * *

Dated: December 23, 2011.
Melissa Hartman,
Deputy Assistant Secretary for Privacy, Transparency, and Records.

[FR Doc. 2012-37 Filed 1-5-12; 8:45 am]

BILLING CODE 4810-39-P